DEPARTMENT OF TRANSPORTATION

Federal Aviation Administration

Membership in the Grand Canyon Working Group of the National Parks Overflights Advisory Group

AGENCY: Federal Aviation Administration, DOT.

ACTION: Notice.

SUMMARY: By Federal Register notice published on March 30, 2005, the National Park Service (NPS) and the Federal Aviation Administration (FAA), announced the establishment of a Grand Canyon Working Group within the National Parks Overflights Advisory Group (NPOAG) and asked interested persons to apply for membership on the new Working Group. This notice informs the public of the persons selected for the Grand Canyon Working Group and the date and location of the first meeting.

FOR FURTHER INFORMATION CONTACT: Lynne Pickard, Senior Advisor for Environmental Policy, Federal Aviation Administration, 800 Independence Avenue NW., Washington, DC 20591, telephone (202) 267-3576, lynne.pickard@faa.gov, or Karen Trevino, National Park Service, Natural Sounds Program, 1201 Oakridge Dr., Suite 350, Ft. Collins, CO 80525, telephone (970) 225-3563, Karen_Trevino@nps.gov.

SUPPLEMENTARY INFORMATION:

Background

The National Parks Overflights Act of 1987 (Pub. L. 100-91) requires actions by the Department of the Interior/National Park Service (DOI/NPS) and the Federal Aviation Administration (FAA) to provide for substantial restoration of the natural quiet and experience of the Grand Canyon National Park and for protection of public health and safety from adverse effects associated with aircraft overflights.

The NPS and the FAA are committed to the joint Federal leadership necessary to complete this task with the participation of stakeholders, including tribal governments. The NPS and the FAA have engaged the U.S. Institute for Environmental Conflict Resolution and Lucy Moore Associates to assist the agencies and stakeholders in developing a final overflights plan that will meet the goals and receive broad support.

The National Parks Overflights Advisory Group (NPOAG) is an appropriate forum for bringing agencies, tribal governments, aviation and environmental interests together to address this issue. The NPS and the FAA, as required by the National Parks Air Tour Management Act of 2000, established the NPOAG in March 2001. By FAA Order No. 1110-138, signed by the FAA Administrator on October 10, 2003, the NPOAG became an Aviation Rulemaking Committee (ARC). The NPOAG is comprised of a balanced group of representatives of general aviation, commercial air tour operations, environmental concerns, and Native American tribes. It provides advice, information, and recommendations to the FAA Administrator and NPS Director with respect to commercial air tour operations over and near national parks and abutting tribal lands. The Administrator and Director may also request the NPOAG's advice and recommendations on safety, environmental, and other issues related to commercial air tour operations over a national park or tribal lands.

Structure of the Grand Canyon Working Group

The Grand Canyon Working Group will be comprised of 20 members to assure a representative and balanced group of agency, tribal, environmental, recreation, and aviation interests. The Working Group will be co-chaired by a representative of the NPS and a representative of the FAA, and will be facilitated by Lucy Moore Associates, a third-party neutral contracted through the U.S. Institute for Environmental Conflict Resolution. The Working Group will address issues related to Grand Canyon overflight noise; seek meaningful, realistic and implementable solutions; and achieve as much consensus as possible on an overflights plan among the multiple interests that have a stake in this issue.

The Working Group will be a self-contained group within the NPOAG that will report simultaneously to the NPOAG, the NPS, and the FAA. The Working Group will have specific responsibility for Grand Canyon overflight matters, including but not limited to:

• Review of the overflights noise analysis in order to have confidence in the approach and results.

• Recommendations for a final overflights plan that provides for the substantial restoration of natural quiet and experience of the Grand Canyon National Park, including routes or corridors for commercial air tour operations that employ quiet aircraft technology, and for protection of public health and safety from adverse effects associated with aircraft overflights.

• Participation in the development of aviation regulations necessary to implement the recommendations.

Date and Location of First Working Group Meeting

The first Working Group will be held July 13-14, 2005 in Flagstaff, Arizona at Thornager's/The Kilted Cat, 2640 West Kiltie Lane, telephone (928) 774-8583. The meeting will begin at 1:30 p.m. on July 13 and end at 5 p.m. on July 14. An agenda will be distributed to Working Group Members and posted on the Grand Canyon Overflights web site (http://overflights.faa.gov) in advance of the meeting. The meeting is an open meeting. Anyone may attend as an observer. Business will be conducted by the Working Group, facilitated by Lucy Moore and supported by NPS and FAA staff. Observers will not participate in the Working Group's discussions, but will be afforded an opportunity during the meeting to ask questions and provide comments. The Working Group is anticipated to meet quarterly and to review and exchange information and views between meetings via mail, telephone, and Email. Meetings will be held within reasonable geographic proximity to the Grand Canyon to minimize travel time and expenses of most participants.

The Working Group may be convened for approximately 3 years, assuming the need for aviation rulemaking activity and accompanying National Environmental Policy Act review following the Working Group's recommendations. The final overflights plan shall ensure that the restoration of natural quiet required by the National Parks Overflights Act is completed no later than April 22, 2008, in accordance with the Presidential memorandum of April 22, 1996.

Working Group Members

On March 30, 2005, the FAA and the NPS published a notice in the Federal Register asking interested persons who met the qualifications requirements to apply for membership in the Working Group. The number of qualified applicants exceeded the number of seats allocated for the Working Group, making the selection process a challenging one. Members have been selected to provide a balanced group of key interests. The persons selected for membership are Ms. Katherine Andrus (Air Transport Association), Mr. Bill Austin (U.S. Fish and Wildlife Service), Mr. Alan Downer (Navajo Nation), Mr. Mark Grisham (Grand Canyon River Outfitters Association), Mr. Elling Halvorson (Papillon Airways), Mr. Dick Hingson (Grand Canyon Trust and National Parks Conservation Association), Mr. Leigh Kuwanwisiwma (Hopi Tribe), Mr. Cliff Langness (Westwind Aviation/King Airlines), Mr. Roland Manakaja (Havasupai Tribe), Mr. Jim McCarthy (Sierra Club), Mr. Doug Nering (Grand Canyon Hikers and Backpackers Association), Ms. Lynne Pickard (FAA and Working Group co-chair), Mr. Alan Stephen (Grand Canyon Airlines), Mr. John Sullivan (Sundance Helicopters), Ms. Karen Trevino (National Park Service and Working Group co-chair), Mr. Charles Vaughn (Hualapai Tribe), Ms. Heidi Williams (Aircraft Owners and Pilots Association), Mr. David Yeamans (Grand Canyon Private Boaters Association), and Mr. Alan Zusman (Department of Defense/U.S. Navy). The representatives named above total 19 to fill the 20-member Working Group because the Grand Canyon Trust and the National Parks Conservation Association have each been selected for membership, but have initially proposed to share a representative. A 20th person will be added to the Working Group, allowing each member organization an individual representative, if this sharing arrangement changes.

Members may designate alternates to substitute for them if they are unable to attend any meetings. Alternates must be approved in advance by the NPS and FAA co-chairs, consistent with the procedure used by the NPOAG. FAA and NPS will maintain a roster of qualified alternates, including but not limited to applications received for Working Group membership, and members may seek alternates from the roster instead of recommending their own. Members and alternates are responsible for keeping each other fully informed, and alternates must be prepared to participate and represent their area of interest.

Questions on Working Group, Meeting, or Membership

Questions about the formation and first meeting of the Working Group, as well as the membership selection process, may be referred to Ms. Lucy Moore, 5 Seton Plaza, Santa Fe, New Mexico 87508, telephone (505) 820-2166, fax (505) 820-2191, Email: lucymoore@nets.com.

Issued in Hawthorne, California on May 17, 2005.
William C. Withycombe,
Regional Administrator, Western-Pacific Region.

[FR Doc. 05-10684 Filed 5-27-05; 8:45 am]

BILLING CODE 4910-13-P